DEPARTMENT OF TRANSPORTATION

Federal Motor Carrier Safety Administration

[Docket No. FMCSA-2006-24015]

Qualification of Drivers; Exemption Applications; Vision

AGENCY: Federal Motor Carrier Safety Administration (FMCSA), DOT.

ACTION: Notice of applications for exemptions; request for comments.

SUMMARY: FMCSA announces receipt of applications from 16 individuals for exemption from the vision requirement in the Federal Motor Carrier Safety Regulations. If granted, the exemptions would enable these individuals to qualify as drivers of commercial motor vehicles (CMVs) in interstate commerce without meeting the Federal vision standard.

DATES: Comments must be received on or before April 21, 2006.

ADDRESSES: You may submit comments identified by DOT Docket Management System (DMS) Docket Number FMCSA-2006-24015 using any of the following methods:

• Web site: http://dmses.dot.gov/submit. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number for this notice. Note that all comments received will be posted without change to http://dms.dot.gov including any personal information provided. Please see the Privacy Act heading for further information.

Docket: For access to the docket to read background documents or comments received, go to http://dms.dot.gov at any time or Room PL-401 on the plaza level of the Nassif Building, 400 Seventh Street, SW., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the Department of Transportation's complete Privacy Act Statement in the Federal Register published on April 11, 2000 (65 FR 19477; Apr. 11, 2000). This information is also available at http://dms.dot.gov.

FOR FURTHER INFORMATION CONTACT: Dr. Mary D. Gunnels, Chief, Physical Qualifications Division, (202) 366-4001, maggi.gunnels@fmcsa.dot.gov, FMCSA, Department of Transportation, 400 Seventh Street, SW., Washington, DC 20590-0001. Office hours are from 8 a.m. to 5 p.m., e.t., Monday through Friday, except Federal holidays.

SUPPLEMENTARY INFORMATION:

Background

Under 49 U.S.C. 31315 and 31136(e), FMCSA may grant an exemption for a 2-year period if it finds “such exemption would likely achieve a level of safety that is equivalent to, or greater than, the level that would be achieved absent such exemption.” FMCSA can renew exemptions at the end of each 2-year period. The 16 individuals listed in this notice each have requested an exemption from the vision requirement in 49 CFR 391.41(b)(10), which applies to drivers of CMVs in interstate commerce. Accordingly, the agency will evaluate the qualifications of each applicant to determine whether granting the exemption will achieve the required level of safety mandated by statute.

Qualifications of Applicants

Juan D. Adame

Mr. Adame, age 33, has had optic nerve atrophy in his right eye since birth. The best corrected visual acuity in his right eye is 20/200 and in the left, 20/20. Following an examination in 2005, his ophthalmologist noted, “I do feel that Mr. Adame has sufficient vision to perform the driving tasks required to operate a commercial vehicle.” Mr. Adame reported that he has driven tractor-trailer combinations for 7 years, accumulating 476,000 miles. He holds a Class A CDL from Michigan. His driving record for the last 3 years shows no crashes or convictions for moving violations in a CMV.

Thomas G. Danclovic

Mr. Danclovic, 46, has complete loss of vision in his right eye due to an intrauterine infection. The best corrected visual acuity in his left eye is 20/15. Following an examination in 2005, his ophthalmologist noted, “In my opinion, the patient has sufficient vision to perform the driving tasks required to operate a commercial vehicle.” Mr. Danclovic reported that he has driven tractor-trailer combinations for 5 years, accumulating 375,000 miles. He holds a Class A CDL from Missouri. His driving record for the last 3 years shows no crashes or convictions for moving violations in a CMV.

Thomas W. Dufford

Mr. Dufford, 35, has had a chorioretinal scar in his right eye since birth. The visual acuity in his right eye is 20/200 and in the left, 20/20. His optometrist examined him in 2005 and noted, “In my opinion, Thomas's visual condition would in no way affect his ability to safely operate a commercial motor vehicle. Based on his ophthalmic exam, I would recommend licensure with no restriction in privileges.” Mr. Dufford reported that he has driven straight trucks for 3 years, accumulating 48,000 miles. He holds a Class C operator's license from Virginia. His driving record for the last 3 years shows no crashes or convictions for moving violations in a CMV.

Williams L. Foote

Mr. Foote, 41, has had amblyopia in his left eye since childhood. The best corrected visual acuity in his right eye is 20/20 and in the left, 20/80. His ophthalmologist examined him in 2005 and noted, “In summary, Mr. Foote has no problems with driving and certainly has visual acuity well enough to allow him to drive a commercial vehicle.” Mr. Foote reported that he has driven straight trucks for 4 years, accumulating 7,200 miles. He holds a Class B CDL from Virginia. His driving record for the last 3 years shows no crashes or convictions for moving violations in a CMV.

Joshua G. Hansen

Mr. Hansen, 44, has complete loss of vision in his right eye due to a traumatic injury sustained in 1990. The visual acuity in his left eye is 20/20. Following an examination in 2005, his optometrist noted, “In my opinion, Josh Hansen has sufficient vision to perform driving tasks required to operate a commercial vehicle.” Mr. Hansen reported that he has driven straight trucks for 10 years, accumulating 350,000 miles, and tractor-trailer combinations for 20 years, accumulating 1.8 million miles. He holds a Class A CDL from Idaho. His driving record for the last 3 years shows no crashes or convictions for moving violations in a CMV.

Daniel W. Henderson

Mr. Henderson, 47, has had amblyopia in his left eye since birth. The visual acuity in his right eye is 20/20 and in the left, count-finger-vision at 10 feet. His optometrist examined him in 2005 and noted, “In my medical opinion, Mr. Henderson has sufficient vision to perform the driving tasks required to operate a commercial vehicle.” Mr. Henderson reported that he has driven straight trucks for 6 months, accumulating 35,000 miles and tractor-trailer combinations for 5 years, accumulating 550,000 miles. He holds a Class A CDL from Tennessee. His driving record for the last 3 years shows no crashes or convictions for moving violations in a CMV.

Casey R. Johnson

Mr. Johnson, 27, has loss of vision in his left eye due to an injury he sustained as a child. The visual acuity in his right eye is 20/15 and in the left, count-finger-vision at 3 feet. Following an examination in 2005, his optometrist noted, “I believe that Casey has demonstrated sufficient vision to operate a commercial vehicle.” Mr. Johnson reported that he has driven straight trucks for 3½ years, accumulating 105,000 miles. He holds a Class D operator's license from Minnesota. His driving record for the last 3 years shows no crashes or convictions for moving violations in a CMV.

Craig T. Jorgensen

Mr. Jorgensen, 45, has had amblyopia in his right eye since birth. The best corrected visual acuity in his right eye is 20/100 and in the left, 20/20. Following an examination in 2005, his optometrist noted, “I believe he has sufficient vision to perform the driving tasks required to operate a commercial vehicle with standard restrictions of glasses required and outside mirrors.” Mr. Jorgensen reported that he has driven straight trucks for 2 years, accumulating 10,000 miles and tractor-trailer combinations for 18 years, accumulating 198,000 miles. He holds a Class A CDL from Wisconsin. His driving record for the last 3 years shows no crashes or convictions for moving violations in a CMV.

Jose A. Lopez

Mr. Lopez, 51, has had amblyopia in his left eye since childhood. The best corrected visual acuity in his right eye is 20/20 and in the left, 20/100. Following an examination in 2005, his optometrist noted, “In my opinion, Jose Lopez has sufficient vision to operate a commercial vehicle.” Mr. Lopez reported that he has driven straight trucks for 1 year, accumulating 61,750 miles and tractor-trailer combinations for 3 years, accumulating 168,750 miles. He holds a Class A CDL from Connecticut. His driving record for the last 3 years shows no crashes or convictions for moving violations in a CMV.

William F. Mack

Mr. Mack, 51, has complete loss of vision in the right eye due to a traumatic injury sustained in 1998. The best corrected visual acuity in his left eye is 20/20. Following an examination in 2005, his optometrist noted, “In my medical opinion, William has sufficient visual capability to safely operate a commercial vehicle.” Mr. Mack reported that he has driven tractor-trailer combinations for 3 years, accumulating 150,000 miles. He holds a Class A CDL from Washington. His driving record for the last 3 years shows no crashes or convictions for moving violations in a CMV.

Bobby L. Mashburn

Mr. Mashburn, 37, has had amblyopia in his left eye since childhood. The visual acuity in his right eye is 20/20 and in the left, 20/200. Following an examination in 2005, his optometrist noted, “In my opinion, Mr. Mashburn's amblyopia in his left eye will not limit his ability to drive a commercial vehicle.” Mr. Mashburn reported that he has driven straight trucks for 13 years, accumulating 13,000 miles. He holds a Class C operator's license from Georgia. His driving record for the last 3 years shows no crashes or convictions for moving violations in a CMV.

Albert L. Remsburg

Mr. Remsburg, 32, has loss of vision in his left eye due to retinal and corneal injury sustained in 1992. The best corrected visual acuity in his right eye is 20/20 and in the left, light perception only. Following an examination in 2005, his optometrist noted, “In my medical opinion, the vision and visual field in the right eye is sufficient to perform the driving tasks required to operate a commercial vehicle.” Mr. Remsburg reported that he has driven straight trucks for 7 years, accumulating 245,000 miles. He holds a Class B CDL from Maryland. His driving record for the last 3 years shows no crashes or convictions for moving violations in a CMV.

Willard L. Riggle

Mr. Riggle, 58, has had a chronic central scotoma in his right eye since childhood. The best corrected visual acuity in his right eye is count-finger-vision at 10 feet and in the left, 20/15. His ophthalmologist examined him in 2005 and noted, “I feel Mr. Riggle has sufficient vision to operate a commercial vehicle.” Mr. Riggle reported that he has driven straight trucks for 39 years, accumulating 975,000 miles, and tractor-trailer combinations for 25 years, accumulating 2.5 million miles. He holds a Class A CDL from Indiana. His driving record for the last 3 years shows no crashes or convictions for moving violations in a CMV.

Ricky L. Shepler

Mr. Shepler, 44, has had amblyopia in his left eye since birth. The best corrected visual acuity in his right eye is 20/20 and in the left, 20/50. Following an examination in 2005, his optometrist noted, “My opinion is, his vision is sufficient to operate a commercial vehicle.” Mr. Shepler reported that he has driven straight trucks for 13 years, accumulating 650,000 miles. He holds a Class A CDL from Pennsylvania. His driving record for the last 3 years shows no crashes or convictions for moving violations in a CMV.

Barney J. Wade

Mr. Wade, 42, has had amblyopia in his left eye since childhood. The best corrected visual acuity in his right eye is 20/20 and in the left, 20/50. Following an examination in 2005, his optometrist noted, “My opinion is that you have sufficient vision to perform the driving tasks required to operate a commercial motor vehicle.” Mr. Wade reported that he has driven straight trucks for 18 years, accumulating 180,000 miles, tractor-trailer combinations for 18 years, accumulating 180,000 miles, and buses for 6 years accumulating 600 miles. He holds a Class A CDL from Mississippi. His driving record for the last 3 years shows no crashes or convictions for moving violations in a CMV.

Kenneth E. Walker

Mr. Walker, 43, has optic neuropathy in his right eye due to a traumatic injury sustained as a child. The visual acuity in his right eye is count-finger-vision at 3 feet and in the left, 20/20. Following an examination in 2005, his ophthalmologist noted, “In my medical opinion, Mr. Walker has sufficient vision to perform driving tasks required to operate a commercial vehicle.” Mr. Walker reported that he has driven straight trucks for 23 years, accumulating 690,000 miles and tractor-trailer combinations for 11 years, accumulating 880,000 miles. He holds a Class A CDL from Virginia. His driving record for the last 3 years shows no crashes or convictions for moving violations in a CMV.

Request for Comments

In accordance with 49 U.S.C. 31315 and 31136(e), FMCSA requests public comment from all interested persons on the exemption petitions described in this notice. The agency will consider all comments received before the close of business April 21, 2006. Comments will be available for examination in the docket at the location listed under the ADDRESSES section of this notice. The agency will file comments received after the comment closing date in the public docket, and will consider them to the extent practicable. In addition to late comments, FMCSA will also continue to file, in the public docket, relevant information that becomes available after the comment closing date. Interested persons should monitor the public docket for new material.

Issued on: March 15, 2006.
Rose A. McMurray,
Associate Administrator, Policy and Program Development.

[FR Doc. 06-2785 Filed 3-21-06; 8:45 am]

BILLING CODE 4910-EX-P